FEDERAL DEPOSIT INSURANCE CORPORATION

[OMB No. 3064-0213]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0213). The notice of the proposed renewal for this information collection was previously published in the Federal Register on March 5, 2023, allowing for a 60-day comment period.

DATES: Comments must be submitted on or before May 20, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collection of information:

1. Title: Industrial Banks and Industrial Loan Companies.

OMB Number: 3064-0213.

Forms: None.

Affected Public: Prospective parent companies of industrial banks and industrial loan companies.

Burden Estimate:

Summary of Estimated Annual Burden (OMB No. 3064-0213)
Information collection (obligation to respond) | Type of burden (frequency of response) | Number of respondents | Number of responses per respondent | Time per response (HH:MM) | Annual burden (hours)
1. Initial Listing of Subsidiaries, 12 CFR 354.4(a)(1) (Mandatory) | Reporting (On Occasion) | 2 | 1 | 04:00 | 8
2. Annual Update of Subsidiaries List, 12 CFR 354.4(a)(1) (Mandatory) | Reporting (Annual) | 2 | 1 | 04:00 | 8
3. Annual Report of Covered Company and Subsidiaries and Other Reports as the FDIC may require, 12 CFR 354.4(a)(3) (Mandatory) | Reporting (Annual) | 2 | 1 | 10:00 | 20
4. Recordkeeping requirements in written agreement, 12 CFR 354.4(a)(4) (Mandatory) | Recordkeeping (Annual) | 2 | 1 | 10:00 | 20
5. Contingency Plan, 12 CFR 354.4(b) (Mandatory) | Reporting (Annual) | 1 | 1 | 345:00 | 345
Total Annual Burden (Hours) |  |  |  |  | 401

General Description of Collection: Part 354 of the FDIC regulations (part 354) establishes filing requirements for industrial banks or industrial loan companies (ILCs) and companies that are not subject to Federal consolidated supervision by the Federal Reserve Board but control an industrial bank or an ILC (covered company). Specifically, part 354 requires any covered company and industrial bank or ILC subsidiary of a covered company to enter into one or more written agreements with the FDIC. However, the requirements under part 354 do not apply to any industrial bank subsidiaries of covered companies that were subsidiaries of covered companies prior to the effective date of part 354—April 1, 2021. The requirements under part 354 give rise to this information collection.

The total estimated annual burden for this information collection is 401 hours, which is a decrease of 56 hours from the 2021 information collection submission (457 hours). This decrease is a result of a reduction in the estimated annual number of respondents.

Request for Comment: Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on April 12, 2024.
James P. Sheesley,
Assistant Executive Secretary.

[FR Doc. 2024-08255 Filed 4-17-24; 8:45 am]

BILLING CODE 6714-01-P